DEPARTMENT OF JUSTICE

Drug Enforcement Administration

[Docket No. DEA-392]

[Bulk Manufacturer of Controlled Substances Registration

ACTION: Notice of registration.

SUMMARY: The registrants listed below have applied for and been granted registration by the Drug Enforcement Administration (DEA) as bulk manufacturers of various classes of schedule I and II controlled substances.

SUPPLEMENTARY INFORMATION: The companies listed below applied to be registered as a bulk manufacturers of various classes of scheduled I and II controlled substances. Information on previously published notices is listed below. No comments or objections were submitted for these notices.

Company | FR Docket | Published
SpecGx LLC | 84 FR 26447 | June 6, 2019.
Sigma Aldrich Research | 84 FR 27659 | June 13, 2019.

The DEA has considered the factors in 21 U.S.C. 823(a) and determined that the registration of these registrants to manufacture the applicable basic classes of controlled substances is consistent with the public interest and with United States obligations under international treaties, conventions, or protocols in effect on May 1, 1971. The DEA investigated each of the company's maintenance of effective controls against diversion by inspecting and testing the company's physical security systems, verifying the company's compliance with state and local laws, and reviewing each company's background and history.

Therefore, pursuant to 21 U.S.C. 823(a), and in accordance with 21 CFR 1301.33, the DEA has granted a registration as a bulk manufacturer to the above listed companies.

Dated: October 16, 2019.
William T. McDermott,
Assistant Administrator.

[FR Doc. 2019-23500 Filed 10-25-19; 8:45 am]

BILLING CODE 4410-09-P